FEDERAL RESERVE SYSTEM

[Docket No. R-1101]

Privacy Act of 1974; Notice of New System of Records

AGENCY: Board of Governors of the Federal Reserve System.

ACTION: Notice of new system of records.

SUMMARY: In accordance with the Privacy Act, the Board of Governors of the Federal Reserve System (Board) is publishing notice of one new system of records, entitled Protective Information System (BGFRS-31). We invite public comment on this new system of records.

DATES: Comment must be received on or before May 17, 2001.

ADDRESSES: Comments, which should refer to Docket No. R-1101, may be mailed to Ms. Jennifer J. Johnson, Secretary, Board of Governors of the Federal Reserve System, 20th Street and Constitution Avenue, NW., Washington, DC 20551 or mailed electronically to regs.comments@federalreserve.gov. Comments addressed to Ms. Johnson also may be delivered to the Board's mail room between 8:45 a.m. and 5:15 p.m. weekdays and to the security control room outside of those hours. The mail room and the security control room are accessible from the Eccles Building courtyard entrance, located on 20th Street between Constitution Avenue and C Street, NW. Comments may be inspected in Room MP-500 between 9 a.m. and 5 p.m.

FOR FURTHER INFORMATION CONTACT: Elaine M. Boutilier, Managing Senior Counsel, Legal Division (202/452-2418), Board of Governors of the Federal Reserve System, 20th Street and Constitution Avenue, NW., Washington, DC 20551.

SUPPLEMENTARY INFORMATION: The Board's Protective Services Unit (PSU) was established to provide security for the Chairman and other members of the Board of Governors. To facilitate security procedures, the PSU intends to install a software program that was developed for law enforcement entities to monitor activities of individuals under investigation. In the short run, the PSU plans to use this system to monitor the correspondence and/or activities of individuals that are perceived to present a possible threat to the safety of Board members. At some time in the future, the PSU may expand protection coverage to other senior officials in the Federal Reserve System. Inclusion of individuals in this system will result primarily from correspondence received from such individuals. Information may also be received from law enforcement agencies that have received an indication of a potential threat to members of the Board. The software that is being acquired for this system will allow the PSU to sort files by a variety of subjects, including such things as names, aliases, addresses, zip codes, etc. This will permit the PSU to obtain a better understanding of the threat, if any, that is presented by an individual or group of individuals. Because the data base will contain information concerning an individual that is identified by the name of that individual, it is a “system of records” under the Privacy Act, and a notice must be published in the Federal Register.

In accordance with 5 U.S.C. 552a(r), a report of this new system of records is being filed with the Chair of the House Committee on Government Reform and Oversight, the Chair of the Senate Committee on Governmental Affairs, and the Office of Management and Budget. This new system of records will become effective on May 21, 2001, without further notice, unless the Board publishes a notice to the contrary in the Federal Register.

BGFRS-31

System Name:

Protective Information System.

Security Classification:

None.

System Location:

Board of Governors of the Federal Reserve System, 20th and Constitution, NW., Washington, DC 20551.

Categories of Individuals Covered by the System:

(a) Individuals who are the subject of protective and background investigations by the Board's Protective Services Unit and/or law enforcement agencies where the evaluation of such individuals, in accordance with criteria established by the Protective Services Unit, indicates a need for such investigations;

(b) Individuals who are the subject of investigative records and reports supplied to the Board's Protective Services Unit by Federal, state, and local law enforcement agencies, foreign or domestic, other non-law enforcement governmental agencies, or private institutions and individuals; and

(c) Individuals who have attempted or solicited unauthorized entry into areas secured by the Board's Protective Services Unit; individuals who have sought unauthorized contact with persons protected by the Protective Services Unit; or individuals who have been involved in incidents or events which relate to the protective functions of the Protective Services Unit.

Categories of Records in the System:

(a) Records containing information supplied by Federal, state, and local law enforcement agencies, foreign or domestic, other non-law enforcement governmental agencies, private institutions and persons concerning individuals who, because of their current activities, background, prior activities and/or behavior, may be of interest to the Board's Protective Services Unit;

(b) Records containing information compiled for the purpose of identifying and evaluating individuals who may constitute a threat to the safety of persons or security of areas protected by the Board's Protective Services Unit; and

(c) Records containing information compiled for the purpose of background investigations of individuals, including but not limited to, passholders, tradesmen, maintenance or service personnel who have access to areas secured by or who may be in close proximity to persons protected by the Board's Protective Services Unit.

Authority for Maintenance of the System:

12 USC 244 and 248(l).

Purpose(s):

These records are collected and maintained to assist the Board in providing a safe and secure environment for the Chairman, Board members and other Federal Reserve System staff.

Routine Uses of Records Maintained in the System, Including Categories of Users and the Purposes of Such Uses:

a. Disclosure to the Department of Justice and other Federal, state, and local governmental agencies having a prosecutive function for the use by attorneys, magistrates, and judges; and parole and probation authorities for the purpose of prosecuting, sentencing, and determining the parole and probation status of criminal offenders or suspected criminal offenders; and for civil and other proceedings involving Protective Services Unit functions.

b. Disclosure to personnel of Federal, state and local law enforcement agencies, foreign or domestic, for the purpose of developing information on subjects involved in protective investigations and evaluations and for the purpose of protective intelligence briefings of personnel of other law enforcement and governmental agencies assisting the Board's Protective Services Unit in the performance of its protective functions.

c. Disclosure to personnel of Federal, state, and local governmental agencies, foreign or domestic, where such disclosures are considered reasonably necessary for the purpose of furthering efforts to investigate the activities of those persons considered to be of protective interest.

d. Disclosure to personnel of Federal, state, and local law enforcement agencies and other governmental agencies, foreign or domestic, where there is a showing of a reasonable need to accomplish a valid law enforcement purpose.

e. Disclosure to personnel of private institutions and to private individuals of identifying information pertaining to actual or suspected criminal offenders or other individuals considered to be of protective interest for the purpose of furthering Protective Service Unit efforts to evaluate the danger such individuals pose to persons protected by that Unit.

f. Records indicating a violation or potential violation of the law, whether civil, criminal, or regulatory in nature, and whether arising by general statute or particular program statute, or by regulation, rule or order issued pursuant thereto, may be disclosed to the appropriate agency, whether Federal, state, local or foreign, charged with the responsibility of investigating or prosecuting such violation or charged with enforcing or implementing the statute, or rule, regulation, or order issued pursuant thereto.

g. Disclosures in the course of presenting evidence to a court, magistrate or administrative tribunal and disclosures to opposing counsel in the course of discovery proceedings for the purpose of enforcing, or prosecuting, a violation or potential violation of law, whether civil, criminal or regulatory in nature and whether arising by general statue or particular program statue, or by regulation, rule or order issued pursuant thereto.

h. Disclosures and/or responses to Federal, state or local agencies maintaining civil, criminal or other relevant law enforcement information or other pertinent information, such as current licenses, if necessary to obtain information relevant to an agency decision concerning the hiring or retention of an employee, the issuance of a security clearance, the issuance of a contract, grant or other benefit, to the extent that the information is relevant and necessary to the requesting agency's decision on the matter.

i. By the National Archives and Records Administration in connection with records management inspections and its role as Archivist.

j. To disclose to contractors, grantees or volunteers performing or working on a contract, service, grant, cooperative agreement, or job for the Board.

Disclosure to consumer reporting agencies:

Not applicable.

Policies and practices for storing, retrieving, accessing, retaining, and disposing of records in the system:

Storage:

Records are maintained in paper and electronic format.

Retrievability:

Electronically-stored information may be retrieved based on name, address, telephone numbers, and other identifying information.

Safeguards:

Only employees in the Protective Services Unit will be able to access the information, and only a limited number of those employees will be authorized to enter data into the automated system.

Retention and Disposal:

All judicial case records are retained for a period of 30 years. All other protective intelligence case records, including protective surveys and non-judicial protective intelligence cases are routinely retained for a period of five years.

System Manager(s) and Address:

Robert Agnew, Board of Governors of the Federal Reserve System, 20th and Constitution Avenue, NW., Washington, DC 20551.

Notification Procedure:

Inquiries should be sent to the Secretary of the Board, Board of Governors of the Federal Reserve System, 20th and Constitution Avenue, NW., Washington, DC 20551. The request should contain the individual's name, date of birth, Social Security number, identification number (if known), approximate date of record, and type of position.

Record Access Procedures:

Same as “Notification procedure” above.

Contesting Record Procedures:

Same as “Notification procedure” above.

Record Source Categories:

This information is exempt pursuant to 5 U.S.C. 552a(k)(2).

Systems Exempted from Certain Provisions of the Act:

This system is exempt from 5 U.S.C. 552a(c)(3), (d), (e)(1), (e)(4)(G), (e)(4)(H), (e)(4)(I), and (f) of the Privacy Act pursuant to 5 U.S.C. 552a(k)(2).

By order of the Board of Governors of the Federal Reserve System, April 11, 2001.
Jennifer J. Johnson,
Secretary of the Board.

[FR Doc. 01-9433 Filed 4-16-01; 8:45 am]

BILLING CODE 6210-01-P